DEPARTMENT OF HEALTH AND HUMAN SERVICES

Administration for Children and Families

45 CFR Parts 1355, 1356 and 1357

Federal Monitoring of Child and Family Service Programs; Request for Public Comment and Consultation Meetings

AGENCY: Department of Health and Human Services (HHS), Administration for Children and Families (ACF), Administration on Children, Youth and Families (ACYF), Children's Bureau (CB)

ACTION: Request for public comment and consultation meetings.

SUMMARY: The Children's Bureau is interested in improving the process by which we review title IV-B and IV-E plan requirements. CB currently reviews a State's compliance through Child and Family Service Reviews (CFSRs). Following two rounds of CFSRs in every State and the passage of several amendments to Federal child welfare laws since the CFSRs began, we believe it is time to reassess how CB reviews title IV-B and IV-E programs through the CFSR and identify enhancements and system improvements we could make.

DATES: Written comments must be submitted to the office listed in the ADDRESSES section below on or before May 20, 2011. Please see SUPPLEMENTARY INFORMATION for additional details on consultation meetings.

ADDRESSES: Interested persons may submit written comments by any of the following methods:

• Federal eRulemaking Portal: http://www.regulations.gov. Follow the instructions for submitting comments.

• E-mail: CBComments@acf.hhs.gov. Please include “Comments on CFSR Federal Register Notice” in the subject line of the message.

• Mail or Courier Delivery: Jan Rothstein, Division of Policy, Children's Bureau, Administration on Children, Youth and Families, Administration for Children and Families, 1250 Maryland Avenue, SW., 8th Floor, Washington, DC 20024

Instructions: If you choose to use an express, overnight, or other special delivery method, ensure that delivery may be made at the address listed under the ADDRESSES section. We urge interested parties to submit comments electronically to ensure that they are received in a timely manner. All comments received will be posted without change to http://www.regulations.gov. This will include any personal information provided. Comments provided during a meeting, or in writing, in response to this Federal Register notice will receive equal consideration by ACF.

FOR FURTHER INFORMATION CONTACT: Jan Rothstein, Children's Bureau, 1250 Maryland Ave., SW., 8th Floor, Washington, DC 20024, (202) 401-5073.

SUPPLEMENTARY INFORMATION: Child and Family Service Review Background: Section 1123A of the Social Security Act (the Act) requires the Secretary of the Department of Health and Human Services to issue regulations for the review of programs under titles IV-B and IV-E to determine whether such programs are in substantial conformity with title IV-B and IV-E plan requirements, implementing regulations and relevant title IV-B and IV-E plans. ACF issued regulations implementing such reviews, known as the CFSRs, in the Federal Register on January 25, 2000 (65 FR 4020). The review process, as regulated, grew out of extensive consultation with interested groups, individuals and experts in the field of child welfare and related areas. The consultation affirmed that the broad goals of child welfare systems are to: Assure safety for all children; to assure permanent, nurturing homes for all children; and to enhance the well-being of children and their families. The reviews reinforce those goals.

The existing CFSRs enable CB to: (1) Ensure conformity with Federal child welfare requirements; (2) determine what is actually happening to children and families as they are engaged in child welfare services; and (3) assist States to enhance their capacity to help children and families achieve positive outcomes. CB conducts the reviews in partnership with State child welfare agency staff and other stakeholders involved in the provision of child welfare services. We have structured the reviews to help States identify strengths as well as areas needing improvement within their agencies and programs.

Each CFSR is a two-stage process consisting of a Statewide Assessment and an onsite review of child and family service outcomes and program systems. For the Statewide Assessment, CB prepares and transmits data profiles that contain aggregate data on the State's foster care and in-home service populations. The data profiles allow each State to compare certain safety and permanency data indicators with national standards determined by CB. The on-site review includes case record reviews, interviews with children and families engaged in services and interviews with other stakeholders. States determined not to have achieved substantial conformity in all the areas assessed are required to develop and implement Program Improvement Plans (PIPs) within two years addressing the areas of nonconformity. CB supports the States with technical assistance and monitors implementation of their plans. States that are unable to complete their PIPs successfully have some of their Federal child welfare funds withheld until they are found to be in substantial conformity or have successfully completed a PIP as prescribed in the Federal regulations.

We believe that the CFSR has been a factor contributing to increased State and local attention to child welfare practice improvement and a renewed focus on child and family outcomes and the systems supporting positive outcomes. Stakeholders have also noted that there are areas where the CFSRs could contribute to even more positive changes. To that end, we are interested in learning from stakeholders in response to the questions below how they would envision a Federal review process that meets the statutory requirements in section 1123A of the Act and holds child welfare agencies accountable for achieving positive outcomes for children and families and continuously improving the quality of their systems for doing so.

In addition to the foregoing, we would like to clarify that, although several of the questions below address Tribal involvement in Federal reviews of title IV-B and IV-E plan requirements, until regulations are in effect otherwise, Indian Tribes operating title IV-E programs of their own are not subject to CFSRs. However, Indian Tribes have participated in CFSRs in the past and Indian children are part of the CFSRs. Therefore, we are interested at this time in gaining their insight into how the process could be improved.

Questions

Please identify the question to which you are responding. If you have additional comments, please identify them by citing to the appropriate section of the regulations or review process, if appropriate:

1. How could ACF best promote and measure continuous quality improvement in child welfare outcomes and the effective functioning of systems that promote positive outcomes for children and families?

2. To what extent should data or measures from national child welfare databases (e.g., the Adoption and Foster Care Analysis and Reporting System, the National Child Abuse and Neglect Data System) be used in a Federal monitoring process and what measures are important for State/Tribal/local accountability?

3. What role should the child welfare case management information system or systems that States/Tribes/local agencies use for case management or quality assurance purposes play in a Federal monitoring process?

4. What roles should State/Tribal/local child welfare agencies play in establishing targets for improvement and monitoring performance towards those targets? What role should other stakeholders, such as courts, clients and other child-serving agencies play?

5. In what ways should targets and performance goals be informed by and integrated with other Federal child welfare oversight efforts?

6. What specific strategies, supports, incentives, or penalties are needed to ensure continued quality improvement and achievement of positive outcomes for children and families that are in substantial conformity with Federal child welfare laws?

7. In light of the ability of Tribes to directly operate title IV-E programs through recent changes in the statute, in what ways, if any, should a Federal review process focus on services delivered to Indian children?

8. Are there examples of other review protocols, either in child welfare or related fields, in which Tribal/State/local governments participate that might inform CB's approach to reviewing child welfare systems?

We welcome any other comments you have about Federal review of child welfare programs, including the current CFSR process.

Additional Consultation Opportunities: In addition to this opportunity to comment, CB plans to hold four in-person consultations in ACF Regions III, VI, VIII and IX and two meetings in our offices in Washington, DC.

CB invites State representatives, Tribal leaders and/or their representatives, judges, families and youth served by the child welfare system and other interested stakeholders to attend these in-person meetings or call in via the conference call number to provide their input on the questions raised above. Registration for the meetings and calls must be completed in advance per the details below. You may also provide written comments as noted in the ADDRESSES section, regardless of participation in an in-person session or conference call. Finally, please note that Federal representatives attending the consultation sessions will not be able to respond directly during the session to the concerns or questions raised by participants. The consultation sessions and contact information are listed below:

CB meeting/conference call-1: April 26, 2011, 12-2 EDT.

CB meeting/conference call-2: May 3, 2011, 1-3 EDT.

Register for the meeting/call of your choice by sending an e-mail to: cw@jbsinternational.com to register.

Region III—April 20, 2011, 10:00-12:00 EDT

150 S. Independence Mall West, Suite 864, Philadelphia, PA 19106-3499, Please send an e-mail to: cw@jbsinternational.com to register.

Region VI—April 18, 2011, 10:00-12:00 CDT

1301 Young Street, Room 1119, Dallas, TX 75202, Please send an e-mail to: cw@jbsinternational.com to register.

Region VIII—April 27, 2011, 10:00-12:00 MDT

999 18th Street, South Terrace, Suite 499, Denver, CO 80202, Please send an e-mail to: cw@jbsinternational.com to register.

Region IX—April 20, 2011, 10:30-12:30 PDT

90 7th Street, 9th Floor, San Francisco, CA 94103, Please send an e-mail to: cw@jbsinternational.com to register.

The Children's Bureau is also hosting Tribal Roundtables for Tribal leaders and/or their representatives. The dates of these sessions are listed below:

August 2-3 in Oklahoma City, Oklahoma;

August 16-17 in Seattle, Washington;

September 13-14 in Minneapolis, Minnesota.

A portion of the agenda for these roundtables will be set aside to discuss Federal monitoring of child and family services programs under titles IV-B and IV-E. The Children's Bureau will send information directly to Tribal leaders regarding attendance at these roundtables.

Dated: March 31, 2011.
Bryan Samuels,
Commissioner, Administration on Children, Youth and Families.

[FR Doc. 2011-8044 Filed 4-4-11; 8:45 am]

BILLING CODE 4184-25-P